DEPARTMENT OF JUSTICE

Notice of Lodging of Proposed Settlement Agreement Under the Comprehensive Environmental Response, Compensation, and Liability Act

On September 2, 2013, a proposed Settlement Agreement was lodged with the United States Bankruptcy Court for the Central District of California in the case entitled In re Halaco Engineering Company, Case No. 9:02-bk-12255-RR (Bankr. C.D. Cal.).

In 2006, the United States, on behalf of the U.S. Environmental Protection Agency (“EPA”), the National Oceanic and Atmospheric Administration of the Department of Commerce (“NOAA”), and the Fish and Wildlife Service of the Department of Interior (“FWS”) filed in the above bankruptcy action a Proof of Claim for environmental response costs, natural resource damages, and natural resource damage assessment costs pursuant to Section 107 of the Comprehensive Environmental Response, Compensation, and Liability Act (“CERCLA”), 42 U.S.C. 9607, relating to the Halaco Superfund Site in Oxnard, California. In 2010, the United States filed a Request for Payment of Environmental Response Costs as Chapter 7 Administrative Expenses and Updated Proof of Claim. Under the Settlement Agreement, the Chapter 7 Bankruptcy Trustee has agreed to provide to EPA an allowed $335,686 Chapter 7 administrative priority claim and an allowed $52,593,544 general unsecured claim; to NOAA, an allowed $487,199 general unsecured claim; and to FWS, an allowed $329,267 general unsecured claim. The Settlement Agreement further provides the United States with a judgment for the allowed claims above and an assignment of insurance rights and policies owned by the debtor, Halaco Engineering Company. The Settlement Agreement separately resolves non-CERCLA state-law claims asserted in the bankruptcy action by the California Regional Water Quality Control Board, Los Angeles Region, and the California State Water Quality Control Board.

The publication of this notice opens a period for public comment on the proposed settlement agreement. Comments should be addressed to the Assistant Attorney General, Environment and Natural Resources Division, and should refer to In re Halaco Engineering Company, Case No. 9:02-bk-12255-RR (Bankr. C.D. Cal.), D.J. Ref. No. 90-11-2-08829. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the proposed consent decree may be examined and downloaded at this Justice Department Web site: http://www.usdoj.gov/enrd/Consent_Decrees.html. We will provide a paper copy of the proposed consent decree upon written request and payment of reproduction costs. Please mail your request and payment to: Consent Decree Library, U.S. DOJ—ENRD, P.O. Box 7611, Washington, DC 20044-7611.

Please enclose a check or money order for $12.75 (25 cents per page reproduction cost) payable to the United States Treasury.

Henry Friedman,
Assistant Section Chief, Environmental Enforcement Section, Environment and Natural Resources Division.

[FR Doc. 2013-23500 Filed 9-26-13; 8:45 am]

BILLING CODE 4410-15-P